DEPARTMENT OF TRANSPORTATION

Federal Aviation Administration

[Docket No. FAA-2020-0124]

Agency Information Collection Activities: Requests for Comments; Clearance of a New Approval of Information Collection: FAA Organization Designation Authorization (ODA) Survey

AGENCY: Federal Aviation Administration (FAA), DOT.

ACTION: Notice and request for comments.

SUMMARY: In accordance with the Paperwork Reduction Act of 1995, FAA invites public comments about our intention to request the Office of Management and Budget (OMB) approval for a new information collection. The collection involves a survey of Organization Designation Authorization (ODA) holders and ODA program applicants to document and assess FAA certification and oversight activities. The information to be collected is necessary because it is required of the FAA per Section 213 of the FAA Reauthorization Act of 2018.

DATES: Written comments should be submitted by April 6, 2020.

ADDRESSES: Please send written comments:

By Electronic Docket: www.regulations.gov (Enter docket number into search field).

By mail: Andrew Jeffrey; 1200 District Ave., 4th Floor; Burlington, MA 01803.

By fax: 781-238-7171.

FOR FURTHER INFORMATION CONTACT: Robert Busto by email at: robert.busto@faa.gov; phone: 816-329-4143.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: FAA Organization Designation Authorization (ODA) Survey.

Form Numbers: None.

Type of Review: New information collection.

Background: Section 213 of the FAA Reauthorization Act of 2018 requires FAA to establish an Expert Panel comprised of ODA holders, aviation manufacturers, safety experts, and FAA labor organizations. The Panel is instructed in the Act to conduct a survey, “of ODA holders and ODA program applicants to document and assess FAA certification and oversight activities, including the use of the ODA program and the timeliness and efficiency of the certification process.” The survey's purpose will be to provide information of whether ODA processes and procedures function as intended, and such information will be incorporated into the Expert Panel's report of assessment and recommendations.

Respondents: Respondents may include ODA holders, ODA applicants, ODA unit members, and FAA Organizational Management Team (OMT) leads/members.

Frequency: The survey will be distributed at least once to support the work of the Expert Panel, and may be re-administered to conduct a longitudinal study; or to support future efforts of the Panel as directed by Congress.

Estimated Average Burden per Response: 1 Hour.

Estimated Total Annual Burden: Total: approximately 2,150 hours.

Issued in Washington, DC.
Joy Wolf,
Directives & Forms Management Officer (DMO/FMO), Aircraft Certification Service.

[FR Doc. 2020-02026 Filed 2-3-20; 8:45 am]

BILLING CODE 4910-13-P